DEPARTMENT OF ENERGY

Federal Energy Regulatory Commission

[Project No. 13830-000]

Eastport Tidal Power LLC; Notice of Competing Preliminary Permit Application Accepted for Filing and Soliciting Comments and Motions To Intervene

September 17, 2010.

On August 9, 2010, Eastport Tidal Power LLC filed an application for a preliminary permit, pursuant to section 4(f) of the Federal Power Act (FPA), proposing to study the feasibility of the Half Moon Cove Tidal Power Plant Project to be located in Half Moon Cove and Cobscook Bay, Washington County, Maine. The sole purpose of a preliminary permit, if issued, is to grant the permit holder priority to file a license application during the permit term. A preliminary permit does not authorize the permit holder to perform any land-disturbing activities or otherwise enter upon lands or waters owned by others without the owners' express permission.

The proposed project would consist of: (1) The existing 544-acre Half Moon Cove; (2) a new 410-foot-long and a new 115-foot-long impervious core, sand, and gravel embankments; (3) a new 860-foot-long concrete modular wall panel extending about 11 feet above mean sea level consisting of: (a) New concrete support columns; (b) a new filling and emptying gated section; (c) a new boat lift; and (d) a new powerhouse with four reversible bulb generating units with a total capacity of 20 megawatts; and (4) a new 34.5 kilovolt, 7.1-mile-long transmission line. The project would produce an estimated average annual generation of about 52,500 megawatt-hours.

Applicant Contact: Andrew Landry, 45 Memorial Circle, PO Box 1058, Augusta, ME 04332, phone: (207) 791-3191, e-mail: alandry@preti.com.

FERC Contact: Tom Dean (202) 502-6041.

Competing Application: This application competes with Project No. 12704-004 filed April 12, 2010. The deadline to file a competing application or notice of intent ended July 16, 2010.

Deadline for filing comments or motions to intervene: 60 days from the issuance of this notice. Comments and motions to intervene may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-13830) in the docket number field to access the document. For assistance, contact FERC Online Support.

Kimberly D. Bose,
Secretary.

[FR Doc. 2010-24074 Filed 9-24-10; 8:45 am]

BILLING CODE 6717-01-P